DEPARTMENT OF STATE

[Delegation of Authority No. 468]

Delegation of Authority To Submit Report Consistent With Condition 10(C) of the U.S. Senate's Resolution of Advice and Consent to Ratification of the Chemical Weapons Convention

By virtue of the authority vested in the Secretary of State, including Section 1 of the State Department Basic Authorities Act, as amended (22 U.S.C. 2651a), Executive Order 13313, dated July 31, 2003, and to the extent authorized by law, I hereby delegate to the Under Chemical Weapons Convention Compliance, consistent with Condition 10(C) of the Resolution of Advice and Consent to Ratification of the Chemical Weapons Convention, adopted by the Senate on April 24, 1997.

Any act, executive order, regulation, or procedure subject to, or affected by, this delegation shall be deemed to be such act, executive order, regulation, or procedure as amended from time to time. Notwithstanding this delegation of authority, the Secretary or the Deputy Secretary may at any time exercise any authority or function delegated herein.

This delegation of authority shall be published in the Federal Register.

Dated: April 9, 2019.
Michael R. Pompeo,
Secretary of State, Department of State.

[FR Doc. 2019-07932 Filed 4-18-19; 8:45 am]

BILLING CODE 4710-10-P